DEPARTMENT OF EDUCATION

National Assessment Governing Board; Meeting

AGENCY: Department of Education, National Assessment Governing Board.

ACTION: Notice of Open Meeting and Partially Closed Meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than February 22, 2008. We will attempt to meet requests after this date, but cannot guarantee availability of the requested accommodation. The meeting site is accessible to individuals with disabilities.

DATES: March 6-8, 2008.

Times:

March 6:

Committee Meeting:

Executive Committee: Open Session—4:30 p.m. to 5:15 p.m.; Closed Session—5:15 p.m. to 6 p.m.

March 7:

Full Board: Open Session—8 a.m. to 9 a.m..; Closed Sessions—9 a.m. to 9:45 a.m. and 12:45 p.m. to 2 p.m.; Open Session—2 p.m. to 4:30 p.m.

Committee Meetings:

Assessment Development Committee: Open Session—10 a.m. to 12:30 p.m.;

Committee on Standards, Design and Methodology: Open Session—10 a.m. to 11 a.m.; Closed Session—11 a.m. to 12:30 p.m.

Reporting and Dissemination Committee: Open Session—10 a.m. to 12:30 p.m.

March 8:

Nominations Committee: Closed Session—7:15 a.m. to 8:15 a.m.

Full Board: Closed Session—9 a.m. to 9:30 a.m.; Open Session—9:30 a.m. to 11 a.m.

Location: Albuquerque Marriott Hotel, 2101 Louisiana Boulevard, NE., Albuquerque, NM 87110.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On March 6, the Executive Committee will meet in open session from 4:30 p.m. to 5:15 p.m. and in closed session from 5:15 p.m. to 6 p.m. During the closed session, the Executive Committee will receive a briefing from the National Center for Education Statistics on contract options for the National Assessment of Educational Progress (NAEP) 2008-2012 assessment years, based on funding for Fiscal Years 2008-2009. The discussion of contract options and costs will address the implications for congressionally mandated goals and adherence to Board policies on NAEP assessments. This part of the meeting must be conducted in closed session because public discussion of this information would disclose independent government costs estimates and contract options, adversely impacting the confidentiality of the contracting process. The meeting must therefore be conducted in closed session as disclosure of technical and cost data would significantly impede implementation of the NAEP contract awards, and is therefore protected by exemption 9(B) of section 552b(c) of Title 5 U.S.C.

On March 7, the full Board will meet in open session from 8 a.m. to 9 a.m. The Board will approve the agenda and a new Board member will be administered the Oath of Office. The Governing Board will receive a report from the Executive Director and hear an update on the work of the National Center for Education Statistics (NCES).

On March 7, the full Board will meet in closed session from 9 a.m. to 9:45 a.m. to receive a briefing on confidential student test results and secure test questions from the NAEP 2007 Puerto Rico Mathematics Assessment at grades 4 and 8. The Governing Board will be provided with confidential test data that has not been released to the public and cannot be discussed in an open meeting prior to their official release. The meeting must therefore be conducted in closed session as premature disclosure of data would significantly impede implementation of the NAEP program, and is therefore protected by exemption 9(B) of section 552b(c) of Title 5 U.S.C.

On March 7, the Assessment Development Committee and the Reporting and Dissemination Committee will meet in open session from 10 a.m. to 12:30 p.m. The Committee on Standards, Design and Methodology will meet in open session from 10 a.m. to 11 a.m. and in closed session from 11 a.m. to 12:30 p.m. During the closed session, the Committee on Standards, Design and Methodology will discuss contract options for setting achievement levels on the 2009 NAEP reading, mathematics and science. The meeting must be conducted in closed session as the Committee will discuss confidential procurement options and independent government cost estimates. Public disclosure of this information, prior to release of the Request for Proposals would release confidential information and provide unfair advantage to potential bidders present at the meeting. This would significantly impede implementation of the NAEP program, and is therefore protected by exemption 9(B) of section 552b(c) of Title 5 U.S.C.

On March 7, the full Board will meet in closed session from 12:45 p.m. to 2 p.m. to receive a briefing from the National Center of Education Statistics on results of the 2007 NAEP Writing Report Card. The Governing Board will be provided with embargoed data on the results of the 2007 Writing Report Card that cannot be discussed in an open meeting prior to their official release. The meeting must therefore be conducted in closed session as premature disclosure of data would significantly impede implementation of the NAEP program, and is therefore protected by exemption 9(B) of section 552b(c) of Title 5 U.S.C.

Upon conclusion of the closed session, from 2 p.m. to 3:15 p.m. on March 7, the full Board will discuss budgets and matters impacting the NAEP Schedule of Assessments. The Board will take action on the NAEP Schedule of Assessments. From 3:30 p.m. to 4:30 p.m. the full Board will discuss Board operations and meeting agendas. The March 7 session of the Board meeting is scheduled to adjourn at 4:30 p.m.

On March 8, the Nominations Committee will meet in closed session from 7:15 a.m. to 8:15 a.m. to review and discuss confidential information regarding nominees received for Board vacancies for terms beginning on October 1, 2008. The Committee will recommend a final slate of candidates for Board discussion and action. Following the Committee meeting, on March 8, the full Board will meet in closed session from 9 a.m. to 9:30 a.m. to receive and discuss the final list of nominees to be submitted to the Secretary of Education for Board appointments. These discussions pertain solely to internal personnel rules and practices of an agency and will disclose information of a personal nature where disclosure would constitute an unwarranted invasion of personal privacy. As such, the discussions are protected by exemptions 2 and 6 of section 552b(c) of Title 5 U.S.C.

The full Board will meet in open session on March 8 from 9:30 a.m. to 11 a.m. to take final action on the list of candidates to be submitted to the Secretary for appointment, for Board member terms beginning October 1, 2008, and to receive and take action on Committee reports. The March 8, 2008 session of the Board meeting will adjourn at 11 a.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 8, 2008.
Charles E. Smith,
Executive Director, National Assessment Governing Board, U.S. Department of Education.

[FR Doc. E8-2736 Filed 2-12-08; 8:45 am]

BILLING CODE 4000-01-P